FEDERAL RESERVE SYSTEM

Change in Bank Control Notices; Formations of, Acquisitions by, and Mergers of Bank Holding Companies; Correction

This notice corrects a notice (FR Doc. 2011-12906) published on page 30361 of the issue for Wednesday, May 25, 2011.

Under the Federal Reserve Bank of Dallas heading, the entry for MTA Bancshares, Inc., Seagoville, Texas, is revised to read as follows:

A. Federal Reserve Bank of Dallas (E. Ann Worthy, Vice President) 2200 North Pearl Street, Dallas, Texas 75201-2272:

1. MTA Bancshares, Inc., Seagoville, Texas; to become a bank holding company by acquiring 100 percent of the voting shares of HomeBank @, Seagoville, Texas.

Comments on this application must be received by June 20, 2011.

Board of Governors of the Federal Reserve System, May 25, 2011.
Robert deV. Frierson,
Deputy Secretary of the Board.

[FR Doc. 2011-13392 Filed 5-31-11; 8:45 am]

BILLING CODE 6210-01-P